NATIONAL SECURITY COMMISSION ON ARTIFICIAL INTELLIGENCE

[Docket No. 1-2021-02]

National Security Commission on Artificial Intelligence; Notice of Federal Advisory Committee Meeting

AGENCY: National Security Commission on Artificial Intelligence.

ACTION: Notice of Federal Advisory Committee virtual public meeting.

SUMMARY: The National Security Commission on Artificial Intelligence (the “Commission”) is publishing this notice to announce that the following Federal Advisory Committee virtual public meeting will take place.

DATES: Wednesday, February 17, 2021, 1:00 p.m. to 4:00 p.m. Eastern Standard Time (EST).

FOR FURTHER INFORMATION CONTACT: Ms. Angela Ponmakha, 703-614-6379 (Voice), nscai-dfo@nscai.gov. Mailing address: Designated Federal Officer, National Security Commission on Artificial Intelligence, 2530 Crystal Drive, Box 45, Arlington, VA 22202. website: https://www.nscai.gov. The most up-to-date information about the meeting and the Commission can be found on the website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The John S. McCain National Defense Authorization Act for Fiscal Year 2019 (FY19 NDAA), Sec. 1051, Public Law 115-232, 132 Stat. 1636, 1962-65 (2018), created the Commission to “consider the methods and means necessary to advance the development of artificial intelligence, machine learning, and associated technologies by the United States to comprehensively address the national security and defense needs of the United States.” In a two-day meeting on January 25-26, 2021, the Commission deliberated on the draft Final Report and associated recommendations for Congress and the Executive Branch. The Commissioners then tasked the Commission staff with drafting specific implementation plans to accompany the Commission's Final Report. On February 17, 2021, Commissioners will meet and deliberate on these draft implementation plans.

Agenda: The meeting will begin on February 17, 2021 at 1:00 p.m. EST with opening remarks by the Designated Federal Officer, Ms. Angela Ponmakha; the Executive Director, Mr. Yll Bajraktari; the Commission Chair, Dr. Eric Schmidt; and the Commission Vice Chair, Mr. Robert Work. Commissioners from each of the Commission's lines of effort (LOEs) will present specific implementation plans associated with chapters of the Final Report for consideration by the entire Commission. The Commission's LOEs are: LOE 1—Invest in AI Research & Development and Software; LOE 2—Apply AI to National Security Missions; LOE 3—Train and Recruit AI Talent; LOE 4—Protect and Build Upon U.S. Technological Advantages & Hardware; LOE 5—Marshal Global AI Cooperation; and LOE 6—Ethics and Responsible AI.

The Commission will deliberate on the draft implementation plans and consider them for inclusion in the Commission's final report to Congress and the Administration. The meeting will adjourn at 4:00 p.m. EST.

Meeting Accessibility: Pursuant to Federal statutes and regulations (the FACA, the Sunshine Act, and 41 CFR 102-3.140 through 102-3.165) and the availability of space, the virtual meeting is open to the public February 17, 2021 from 1:00 p.m. to 4:00 p.m. EST. Members of the public wishing to receive a link to the live stream webcast for viewing and audio access to the virtual meeting should register on the Commission's website, https://www.nscai.gov. Registration will be available from February 8, 2021 through February 16, 2021. Members of the media should RSVP to the Commission's press office at press@nscai.gov.

Special Accommodations: Individuals requiring special accommodations to access the public meeting should contact the DFO, see the FOR FURTHER INFORMATION CONTACT section for contact information, no later than February 12, 2021, so that appropriate arrangements can be made.

Access to Records of the Meeting: Pursuant to FACA requirements, the meeting materials for the virtual meetings will be available for public inspection on the Commission's website at https://www.nscai.gov on February 12, 2021.

Written Statements: Written comments may be submitted to the DFO via email to: nscai-dfo@nscai.gov in either Adobe Acrobat or Microsoft Word format. The DFO will compile all written submissions and provide them to the Commissioners for consideration. Comments must be received by February 15 to be reviewed by Commissioners in advance of the meeting. Please note that all submitted comments will be treated as public documents and will be made available for public inspection, including, but not limited to, being posted on the Commission's website.

Dated: January 28, 2021.
Michael Gable,
Chief of Staff.

[FR Doc. 2021-02196 Filed 2-2-21; 8:45 am]

BILLING CODE 3610-Y8-P